FEDERAL TRADE COMMISSION

16 CFR Parts 2, 3 and 4

Rules of Practice

Correction

In rule document 01-8045, beginning on page 17622, in the issue of Tuesday, April 3, 2001, make the following corrections:

1. On page 17622, in the third column, in the first full paragraph, in the 14th line, “Regulation” should read “Regulations”.

2. On page 17623, in the second column, in the third full paragraph, in the seventh line, “§3.36(b)(2) to” should read “§3.36(b)(2) is evidently a typographical error, and should refer”.

3. On page 17624, in the first column, in the second full paragraph, in the 16th line, “from” should read “form”.

4. On page 17625, in the first column, in the third full paragraph, “ program” should read “problem”.

5. On page 17627, in the third column, under the List of Subjects Part 2, in the first line, “Administration” should read “ Administrative”.

6. On the same page, in the same column, under the List of Subjects Part 3, in the first line, “Administration” should read “ Administrative”.

7. On page 17628, in the first column, under the List of Subjects Part 4, in the first line, “Administration” should read “ Administrative”.

§3.12 [Corrected]

8. On page 17628, in the first column, in §3.12(a)(1), in the third line, “order or” should read “order of”.

§ 3.31 [Corrected]

9. On page 17628, in the third column, in §3.31(b)(3), in the 11th line, “to a witness who is retained or specially employed to provide to a witness who is retained or specially employed to provide” should read “to a witness who is retained or specially employed to provide expert testimony in the”.

§ 3.36 [Corrected]

10, On page 17629, in the second column, in §3.36 (a), in the first line, “Forms. an” should read “Formÿ7E. An”.

§3.39 [Corrected]

11. On page 17629, in the third column, in §3.39(a), in the third line, “dependent” should read “ deponent”.

§ 3.43 [Corrected]

12. On page 17629, in the third column, the section number is corrected to read as set forth above.

13. On the same page, in the same column, in §3.43 (b), in the 14th line, “presentations” should read “presentation”.

14. On page 17630, in the first column, in §3.43 (b)(2), in the 10th line, “(1968.” should read “(1968)”.

§ 3.45 [Corrected]

15. On page 17630, in the second column, in §3.45 (b)(2), in the second line, “in camera in treatment” should read “ in camera treatment ”.

16. On the same page, in the same column, in §3.45 (d), in the 11th line, “finds” should read “findings”.

§ 3.52 [Corrected]

17. On page 17631, in the second column, in §3.52(b), in the first line, “Appeal brief. ” should read “Appeal brief. (1)”.

18. On page 17632, in the first column, in §3.52(e), in the seventh line, “that” should read “the”.

19. On the same page, in the same column, in the same section, in paragraph (f)(2), in the fifth line, “brief” should read “ belief”.

20. On the same page, in the same column, in the same section, in the same paragraph, in the 10th line, “with” should read “ all”.

21. On the same page, in the same column, in the same section, in the same paragraph, in the 12th line, “and” should read “ the”.

22. On the same page, in the second column, in the same section, in paragraph (j), in the 12th line, “field” should read “ filed”.

§ 4.2 [Corrected]

23. On page 17632, in the third column, in §4.2(c), in the eighth line, “filed the ” should read “ filed with ”.

24. On the same page, in the same column, in the same section, in paragraph (c)(2), in the 14th line “of” should read “of the”.

25. On page 17633, in the first column, in §4.2(c), in the eighth line, “proceedings ” should read “ proceeding”.

26. On the same page, in the same column, in the same section, in paragraph (f), in the third line, “or” should read “for”.

27. On the same page, in the second column, in §4.2(f)(2), in the seventh line, “this” should read “his”.

28. On the same page, in the same column, in the same paragraph, in the same section, in the 11th line, “purposed” should read “purpose”.

29. On the same page, in the same column, in the same section, in paragraph (g), in the fourth line, “with” should read “with the”.

§ 4.4 [Corrected]

30. On page 17633, in the second column, in §4.4(a)(3),in the third line “Commissions' ” should read “ Commission's ”.

31. On the same page, in the same column, in the same section, in the same paragraph, in the ninth line, “of the” should read “of ”

32. On the same page, in the third column, in §4.4(b), in the second line, “that” should read “the”.

33. On the same page, in the same column, in the same section, in the same paragraph, in the second line, “ that Assistant” should read “the Assistant”.

34. On the same page, in the same column, in the same section, in the same paragraph, in the sixth line, “ compliant” should read “complaint”.

[FR Doc. C1-8045 Filed 4-20-01; 8:45 am]

BILLING CODE 1505-01-D